DEPARTMENT OF THE INTERIOR

National Park Service

Winter Use Plans, Final Environmental Impact Statement, Record of Decision Amendment-Sylvan Pass Management, Yellowstone and Grand Teton National Parks and the John D. Rockefeller, Jr. Memorial Parkway, Wyoming

AGENCY: National Park Service, Department of the Interior.

ACTION: Notice of Availability of a Record of Decision Amendment—Sylvan Pass Management on the Final Environmental Impact Statement for the Winter Use Plans, Final Environmental Impact Statement, Yellowstone and Grand Teton National Parks and the John D. Rockefeller, Jr. Memorial Parkway.

SUMMARY: Pursuant to the National Environmental Policy Act of 1969, 42 U.S.C. 4332(2)(C), the National Park Service announces the availability of the Record of Decision Amendment—Sylvan Pass Management for the Winter Use Plans, Final Environmental Impact Statement, Yellowstone and Grand Teton National Parks and the John D. Rockefeller, Jr. Memorial Parkway, Wyoming. On July 16, 2008, the Director, Intermountain Region, approved the Record of Decision Amendment—Sylvan Pass Management for the project.

On November 20, 2007, a Record of Decision was signed on the Winter Use Plans/Final Environmental Impact Statement for Yellowstone and Grand Teton National Parks and the John D. Rockefeller, Jr. Memorial Parkway. The November 20, 2007, Record of Decision (on page 6) addressed management of Sylvan Pass in Yellowstone National Park, stating:

“This decision addresses Sylvan Pass in Yellowstone. For the winter season of 2007-2008 the pass will be managed continuing the combined program outlined in the 2004 Temporary Plan. After the winter of 2007-2008, in order to maximize risk reduction, the pass would be open and managed using full avalanche forecasting (as defined in the Sylvan Pass Operational Risk Management Assessment). When full forecasting indicates the pass is safe, the pass would be open to oversnow travel (both motorized and non-motorized access).

“The National Park Service will, in good faith, work cooperatively with the State of Wyoming, Park County, Wyoming and the town of Cody to determine how to provide continued snowmobile and snowcoach motorized oversnow access to Yellowstone National Park through the East Gate via Sylvan Pass in the winter use seasons beyond 2007-2008.

“The National Park Service will meet with representatives of the State of Wyoming, Park County, Wyoming and the town of Cody to further explore reasonable avalanche and access mitigation safety measures and costs. In order to provide adequate time to amend this Record of Decision reflecting a potential consensus of the parties and to promulgate a new regulation reflecting the amended decision for the 2008-2009 winter use season and beyond, consensus should be reached by June 1, 2008.”

Since the Record of Decision, the NPS has met with representatives of the City of Cody, Wyoming, Park County, Wyoming, the State of Wyoming, and Wyoming state elected officials (collectively known as the Sylvan Pass Study Group) and explored reasonable avalanche and access mitigation safety measures and costs.

The outcome of the meetings was that the Sylvan Pass Study Group recommended to the Intermountain Regional Director of the National Park Service that the November 2007 Record of Decision on Winter Use in Yellowstone National Park be amended to keep Sylvan Pass open in future winter use seasons to motorized and non-motorized oversnow travel for a limited core season, between December 22 and March 1. The group recommended continued use of a combination of avalanche mitigation techniques, including forecasting and helicopter and howitzer dispensed explosives.

This recommendation was taken into account in preparing the Record of Decision Amendment—Sylvan Pass Management (Amendment). The Amendment only addresses Sylvan Pass in Yellowstone National Park. Unless specifically modified by the Amendment, all other elements of the November 20, 2007, Record of Decision remain in place.

The Amendment is primarily based upon alternative 5 in the Final Environmental Impact Statement (alternative 5 calls for the same overall number of snowmobiles in Yellowstone as the November 20, 2007, decision, and for Sylvan Pass to be kept open).

The amended decision is that Sylvan Pass will be open for oversnow travel (both motorized and non-motorized) for a limited core season, from December 22 through March 1 each winter, subject to weather-related constraints and NPS fiscal, staff, infrastructural, equipment, and other safety-related capacities. A combination of avalanche mitigation techniques may be used, including forecasting and helicopter and howitzer dispensed explosives. The results of previous safety evaluations of Sylvan Pass by the Occupational Safety and Health Administration and an Operational Risk Management Assessment will be reviewed and updated, and the NPS will evaluate additional avalanche mitigation techniques and risk assessment tools in order to further improve safety and visitor access.

From March 2 to March 15, the NPS will maintain the road segment from the East Entrance to a point approximately four miles west of the entrance station to provide for opportunities for cross-country skiing and snowshoeing. Limited snowmobile and snowcoach use will be allowed in order to provide drop-offs for such purposes.

This course of action and seven alternatives were analyzed in the Draft and Final Environmental Impact Statements. The full range of foreseeable environmental consequences was assessed, and appropriate mitigation measures were identified.

The Amendment includes a statement of the decision made, synopses of other alternatives considered, the basis for the decision, a description of the environmentally preferred alternative, a finding on impairment of park resources and values, and an overview of the public and agency involvement in reaching this Record of Decision Amendment.

On December 13, 2007, a final regulation was published in the Federal Register (72 FR 70781), which implemented certain provisions of the November 20, 2007 Record of Decision. The National Park Service has reviewed the regulation (36 CFR 7.13) and determined that promulgating a new regulation to implement this Amendment is not necessary.

FOR FURTHER INFORMATION CONTACT: John Sacklin, P.O. Box 168, Yellowstone National Park, WY 82190, (307) 344-2019, yell_winter_use@nps.gov .

SUPPLEMENTARY INFORMATION: Copies of the Record of Decision Amendment-Sylvan Pass Management may be obtained from the contact listed above or online at http://parkplanning.nps.gov/yell.

Dated: July 21, 2008.
Michael D. Snyder,
Regional Director, Intermountain Region, National Park Service.

[FR Doc. E8-19620 Filed 8-22-08; 8:45 am]

BILLING CODE 4312-CT-P